FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

PHIL-AM Cargo Express, LLC, 2906 Keats Avenue, Clovis, CA 93611. Officers:Theodore G. Tanaleon, Member/Manager, (Qualifying Individual), Irma M. Tanaleon, Member/Manager.

Apex Maritime Co. (PDX) Inc., 11818 SE Mill Plain Blvd., Vancouver, WA 98684. Officers:Vicky Cheung, President, (Qualifying Individual), Michael Stephenson, Vice President.

American Ocean Line, Inc., 148 The Knoll, Syosset, NY 11791. Officer:Harry Taurani, President, (Qualifying Individual).

S.O.E. Lines, Inc., 177-25 Rockaway Blvd., Ste. 201, Jamaica, NY 11434. Officers:Po Ling Yu, President, (Qualifying Individual), Yat Lee Cheung, Secretary.

Camden Shipping Corporation, 56 Georgetown Road, Bordentown, NJ 08505. Officers:James Madden, Sen. Vice President, (Qualifying Individual), Michelle Bunting, President.

PATJAM Shipping Moving and Storage Inc., dba Patrick's Shipping Inc., 3477 NW 19th Street, Lauderdale Lakes, FL 33311. Officers:Patrick McNeil, President, (Qualifying Individual), Terrence Pennicooke, Vice President.

Universal Shipping and Trade Corporation, 151 25th Street, Brooklyn, NY 11201. Officers:Leslyn Antoine-Patterson, Corp. Secretary, (Qualifying Individual), Shaker Lashucl, President.

Non-Vessel Operating Common Carrier and Ocean Freight Forwarder Transportation Intermediary Applicants

Salcedo Cargo Express, Inc., 1388 Jesup Avenue, Bronx, NY 10452. Officer:Charles Canaan, President, (Qualifying Individual).

Transatlantic Arc LLC, 94-11 59th Avenue, Elmhurst, NY 11373. Officers:Mark W. Broers, Vice Operating Manager, (Qualifying Individual), Diana G. Petrof, Operating Manager.

GFS Global Logistics, LLC, Six Concourse Parkway, Ste. 1750, Atlanta, GA 30328. Officers:David W. Higgs, Vice President Int'l., (Qualifying Individual), Dan Smith, CEO.

United Logistics Corp., 3650 Mansell Road, Alpharetta, GA 30022. Officer:Jason Scott Ewing, Operations Manager, (Qualifying Individual).

Ocean Freight Forwarder—Ocean Transportation Intermediary Applicants

Precious Enterprises dba JB Cargo, 1559 East Amar Road, Ste. J, West Covina, CA 91792. Simis-Emista P. Baquiran, Sole Proprietor.

Onward Shipping & Clearing Service Inc., 2305 Oak Lane, #2018, Grand Prairie, TX 75051. Officers:Julius O. Okunola, President, (Qualifying Individual), Folake Okunola, Vice President.

LDC Import & Export Inc., 19 Yardley Ct., Glendale Heights, IL 60139. Officer:Mounir Zamzaoui, President, (Qualifying Individual).

Cybamar USA, LLC, 24551 Warren Avenue, Dearborn Heights, MI 48127. Officer:Hassan Salhab, President, (Qualifying Individual).

Transoceanic Shipping Company, Inc., Lakeway II, 3850 N. Causeway Blvd., Suite 1330, Metairie, LA 70002. Officer:Thomas J. Griffin, President, (Qualifying Individual).

Amobeige Shipping Corp., 934 Broadway, Bayonne, NJ 07002. Officer:Alice Smerda, President, (Qualifying Individual).

Dated: April 18, 2008.
Karen V. Gregory,
Assistant Secretary.

[FR Doc. E8-8807 Filed 4-22-08; 8:45 am]

BILLING CODE 6730-01-P